NUCLEAR REGULATORY COMMISSION

[Docket No. 50-133; NRC-2010-0346]

Environmental Assessment and Finding of No Significant Impact Related to Exemption of Material for Proposed Disposal Procedures for the Humboldt Bay Power Plant, Unit No. 3, License DPR-007, Eureka, CA

AGENCY: Nuclear Regulatory Commission.

ACTION: Environmental Assessment and Finding of No Significant Impact.

FOR FURTHER INFORMATION CONTACT: John Hickman, Division of Waste Management and Environmental Protection, Office of Federal and State Materials and Environmental Management Programs, U.S. Nuclear Regulatory Commission, Mail Stop: T8F5, Washington, DC 20555-00001, telephone (301) 415-3017, e-mail john.hickman@nrc.gov.

SUPPLEMENTARY INFORMATION:

I. Introduction

The U.S. Nuclear Regulatory Commission (NRC) staff is considering a request dated April 1, 2010, as supplemented August 12, 2010, by Pacific Gas and Electric Company (PG&E, the licensee) for alternate disposal of approximately 200,000 cubic feet of hazardous waste containing low-activity radioactive debris, at the US Ecology Idaho (USEI) Resource Conservation and Recovery Act (RCRA) Subtitle C hazardous disposal facility located near Grand View, Idaho. This request was made under the alternate disposal provision contained in 10 CFR 20.2002 and the exemption provision in 10 CFR 30.11.

This Environmental Assessment (EA) has been developed in accordance with the requirements of 10 CFR 51.21.

II. Environmental Assessment

Identification of Proposed Action

On July 2, 1976, Humboldt Bay Power Plant (HBPP) Unit 3 was shut down for annual refueling and to conduct seismic modifications. In 1983, updated economic analyses indicated that restarting Unit 3 would probably not be cost-effective, and in June 1983, Pacific Gas and Electric Company (PG&E) announced its intention to decommission the unit. On July 16, 1985, the U.S. Nuclear Regulatory Commission (NRC) issued Amendment No. 19 to the HBPP Unit 3 Operating License to change the status to possess-but-not-operate. In December of 2008, the transfer of spent fuel from the fuel storage pool to the dry-cask Independent Spent Fuel Storage Installation was completed, and the decontamination and dismantlement phase of HBPP Unit 3 decommissioning commenced. In 2010 the construction of a new power generation facility on site will be completed and the licensee will begin dismantlement of the non-nuclear HBPP Units 1 and 2.

PG&E requested NRC authorization for the disposal of waste from the HBPP at the US Ecology Idaho (USEI) facility in accordance with 10 CFR 20.2002. This waste would be generated during the decommissioning of the non-nuclear Units 1 and 2 and the nuclear Unit 3. This waste consists of approximately 200,000 ft³ (5,663 m³) of concrete, steel, insulation, roofing material, and other debris from Units 1 and 2 as well as concrete shielding, building materials, and soil debris from Unit 3.

The waste would be transported by truck from HBPP in Eureka, CA to the USEI facility, Grand View, Idaho in the Owyhee Desert. The USEI facility is a Subtitle C Resource Conservation and Recovery Act (RCRA) hazardous waste disposal facility permitted by the State of Idaho. The USEI site has both natural and engineered features that limit the transport of radioactive material. The natural features include the low precipitation rate [i.e., 18.4 cm/y (7.4 in. per year)] and the long vertical distance to groundwater (i.e., 61-meter (203-ft) thick on average unsaturated zone below the disposal zone). The engineered features include an engineered cover, liners and leachate monitoring systems. Because the USEI facility is not licensed by the NRC, this proposed action would require the NRC to exempt the low-contaminated material authorized for disposal from further AEA and NRC licensing requirements.

Need for Proposed Action

The subject waste material consists of concrete, steel, insulation, roofing material, gravel and other metal, wood and soil debris generated during dismantlement activities located at the HBPP site, the majority being from the non-nuclear Units 1 and 2. This proposed alternate disposal would conserve low-level radioactive waste disposal capacity.

Environmental Impacts of the Proposed Action

The NRC staff has reviewed the evaluation performed by the Licensee to demonstrate compliance with the 10 CFR 20.2002 alternate disposal criteria. Under these criteria, a licensee may seek NRC authorization to dispose of licensed material using procedures not otherwise authorized by the NRC's regulations. A licensee's supporting analysis must show that the radiological doses arising from the proposed 10 CFR 20.2002 disposal will be as low as reasonably achievable and within the 10 CFR Part 20 dose limits.

PG&E performed a radiological assessment in consultation with USEI. Based on this assessment, PG&E concludes that potential doses to members of the public, including workers involved in the transportation and placement of this waste, will be less than one millirem total effective dose equivalent (TEDE) in one calendar year for this project, and well within the “few millirem” criteria that the NRC has established.

The staff evaluated activities and potential doses associated with transportation, waste handling and disposal as part of the review of this 10 CFR 20.2002 application. The projected doses to individual transportation and USEI workers have been appropriately estimated and are demonstrated to meet the NRC's alternate disposal requirement of contributing a dose of not more than “a few millirem per year” to any member of the public. Independent review of the post-closure and intruder scenarios confirmed that the maximum projected dose over a period of 1,000 years is also within “a few millirem per year.” Additionally, the proposed action will not significantly increase the probability or consequences of accidents and there is no significant increase in occupational or public radiation exposures.

With regard to potential non-radiological impacts, the proposed action does not have a potential to affect any historic sites. The proposed action does not affect non-radiological plant effluents, air quality or noise.

The proposed action and attendant exemption of the material from further AEA and NRC licensing requirements will not significantly increase the probability or consequences of accidents, no changes are being made in the types of any effluents that may be released off site, and there is no significant increase in occupational or public radiation exposure.

Environmental Impacts of the Alternatives to the Proposed Action

Due to the very small amounts of radioactive material involved, the environmental impacts of the proposed action are small. Therefore, the only alternative the staff considered is the no-action alternative, under which the staff would deny the disposal request. This denial of the request would result in no change in current environmental impacts. The environmental impacts of the proposed action and the no-action alternative are therefore similar and the no-action alternative is accordingly not further considered.

Conclusion

The NRC staff has concluded that the proposed action will not significantly impact the quality of the human environment, and that the proposed action is the preferred alternative.

Agencies and Persons Consulted

NRC provided a draft of this Environmental Assessment to the State of Idaho Department of Environmental Quality for review on October 6, 2010. On October 18, 2010, the State replied by e-mail. The State stated that they did not intend to respond.

The NRC staff has determined that the proposed action is of a procedural nature, and will not affect listed species or critical habitat. Therefore, no further consultation is required under Section 7 of the Endangered Species Act. The NRC staff has also determined that the proposed action is not the type of activity that has the potential to cause effects on historic properties. Therefore, no further consultation is required under Section 106 of the National Historic Preservation Act.

III. Finding of No Significant Impact

The NRC staff has prepared this EA in support of the proposed action. On the basis of this EA, the NRC finds that there are no significant environmental impacts from the proposed action, and that preparation of an environmental impact statement is not warranted. Accordingly, the NRC has determined that a Finding of No Significant Impact is appropriate.

IV. Further Information

Documents related to this action, including the application and supporting documentation, are available electronically at the NRC's Electronic Reading Room at http://www.nrc.gov/reading-rm/adams.html. From this site, you can access the NRC's Agencywide Document Access and Management System (ADAMS), which provides text and image files of NRC's public documents. The documents related to this action are listed below, along with their ADAMS accession numbers.

(1) Letter dated April 1, 2010, “Request for 10 CFR 20.2002 Alternate Disposal Approval and 10 CFR 30.11 Exemption of Humboldt Bay Power Plant Waste for Disposal at US Ecology Idaho.” [ADAMS Accession Number ML101170554]

(2) E-Mail dated August 11, 2010, providing Radiological Characterization Report for Humboldt Bay Power Plant. [ML102300557]

(3) Letter dated August 12, 2010, “Revision to Request for 10 CFR 20.2002 Alternate Disposal Approval and 10 CFR 30.11 Exemption of Humboldt Bay Power Plant Waste for Disposal at US Ecology Idaho.” [ML102290019]

(4) E-Mail dated September 18, 2010, providing MARSAME process for Humboldt Bay Power Plant. [ML102700555]

(5) Letter dated January 21, 2010, providing supplemental information on USEI [ML100291004]

(6) Letter dated March 31, 2010, providing supplemental information on USEI [ML100950386]

If you do not have access to ADAMS, or if there are problems in accessing the documents located in ADAMS, contact the NRC Public Document Room (PDR) Reference staff at 1-800-397-4209, 301-415-4737, or by e-mail to pdr@nrc.gov. These documents may also be viewed electronically on the public computers located at the NRC's PDR, O 1 F21, One White Flint North, 11555 Rockville Pike, Rockville, MD 20852. The PDR reproduction contractor will copy documents for a fee.

Dated at Rockville, Maryland, November 2, 2010.
For the Nuclear Regulatory Commission.
Keith I. McConnell,
Deputy Director, Decommissioning and Uranium Recovery Licensing Directorate, Division of Waste Management and Environmental Protection, Office of Federal and State Materials and Environmental Management Programs.

[FR Doc. 2010-28397 Filed 11-9-10; 8:45 am]

BILLING CODE 7590-01-P